DEPARTMENT OF ENERGY

Federal Energy Regulatory Commission

Combined Notice of Filings #2

Take notice that the Commission received the following electric rate filings:

Docket Numbers: ER10-3069-004; ER10-3070-004.

Applicants: Alcoa Power Marketing LLC, Alcoa Power Generating Inc.

Description: Notice of Non-Material Change in Status of Alcoa Power Marketing LLC, et al.

Filed Date: 12/11/2012.

Accession Number: 20121211-5100.

Comments Due: 5 p.m. ET 1/2/13.

Docket Numbers: ER13-113-002.

Applicants: Sunbury Energy, LLC.

Description: Sunbury Energy, LLC submits tariff filing per 35.17(b): Amended Filing No. 2 to be effective 12/21/2012.

Filed Date: 12/11/12.

Accession Number: 20121211-5093.

Comments Due: 5 p.m. ET 1/2/13.

Docket Numbers: ER13-247-000.

Applicants: NV Energy, Inc.

Description: Sierra Pacific Power Company submits Transmission Rate Case Exhibit No. SPPC-9.2 Depreciation Study and Supporting Testimony Filed with the Public Utilities Commission of Nevada.

Filed Date: 12/6/12.

Accession Number: 20121206-5163.

Comments Due: 5 p.m. ET 12/18/12.

Docket Numbers: ER13-542-000.

Applicants: Louisville Gas and Electric Company.

Description: Louisville Gas and Electric Company submits tariff filing per 35.13(a)(2)(iii: OATT Att M LGIA Rev to be effective 12/12/2012.

Filed Date: 12/11/12.

Accession Number: 20121211-5098.

Comments Due: 5 p.m. ET 1/2/13.

Docket Numbers: ER13-543-000.

Applicants: Midwest Independent Transmission System Operator, Inc.

Description: Midwest Independent Transmission System Operator, Inc. submits tariff filing per 35: 12-11-12 CONE Compliance to be effective 6/1/2012 .

Filed Date: 12/11/12.

Accession Number: 20121211-5102.

Comments Due: 5 p.m. ET 1/2/13.

Docket Numbers: ER13-544-000

Applicants: Northern States Power Company, a Wisconsin corporation.

Description: Northern States Power Company, a Wisconsin corporation submits tariff filing per 35.13(a)(2)(iii: 2012_12_11_DPC Lufkin SS-333 to be effective 11/15/2012.

Filed Date: 12/11/12.

Accession Number: 20121211-5103.

Comments Due: 5 p.m. ET 1/2/13.

Docket Numbers: ER13-545-000.

Applicants: Midwest Independent Transmission System Operator, Inc.

Description: Midwest Independent Transmission System Operator, Inc. submits tariff filing per 35.13(a)(2)(iii: SA 2501 BREC-Vectren IA to be effective 12/12/2012.

Filed Date: 12/11/12.

Accession Number: 20121211-5114

Comments Due: 5 p.m. ET 1/2/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 11, 2012.
Nathaniel J. Davis, Sr.,
Deputy Secretary.

[FR Doc. 2012-30388 Filed 12-17-12; 8:45 am]

BILLING CODE 6717-01-P